DEPARTMENT OF AGRICULTURE

Animal and Plant Health Inspection Service

9 CFR Part 91

[Docket No. APHIS-2006-0147]

RIN 0579-AC26

Cattle for Export; Removal of Certain Testing Requirements

AGENCY: Animal and Plant Health Inspection Service, USDA.

ACTION: Proposed rule.

SUMMARY: We are proposing to amend the livestock exportation regulations to eliminate the requirement for pre-export tuberculosis and brucellosis testing of certain cattle being exported to countries that do not require such testing. This action would facilitate the exportation of certain cattle by eliminating the need to conduct pre-export tuberculosis and brucellosis testing when the receiving country does not require such testing.

DATES: We will consider all comments that we receive on or before March 12, 2007.

ADDRESSES: You may submit comments by either of the following methods:

• Federal eRulemaking Portal: Go to http://www.regulations.gov, select “Animal and Plant Health Inspection Service” from the agency drop-down menu, then click “Submit.” In the Docket ID column, select APHIS-2006-0147 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to Docket No. APHIS-2006-0147, Regulatory Analysis and Development, PPD, APHIS, Station 3A-03.8, 4700 River Road Unit 118, Riverdale, MD 20737-1238. Please state that your comment refers to Docket No. APHIS-2006-0147.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Antonio Ramirez, Senior Staff Veterinarian, Technical Trade Services, National Center for Import and Export, VS, APHIS, 4700 River Road, Unit 40, Riverdale, MD 20737-1231; (301) 734-8364.

SUPPLEMENTARY INFORMATION:

Background

The regulations in 9 CFR part 91, “Inspection and Handling of Livestock for Exportation” (referred to below as the regulations), prescribe conditions for exporting animals from the United States. Section 91.5 requires, among other things, that cattle intended for exportation be tested for tuberculosis and brucellosis prior to export.

Certain exceptions to the testing requirement exist. The regulations in § 91.5(a) do not require testing for tuberculosis prior to export when cattle are being exported directly to slaughter in a country that the Administrator of the Animal and Plant Health Inspection Service (APHIS) has determined has an acceptable tuberculosis surveillance system at slaughter plants and that agrees to share any findings of tuberculosis in U.S. origin cattle with APHIS, or when cattle are being exported directly to slaughter from a State designated as an Accredited-free State in 9 CFR part 77, “Tuberculosis.”

The regulations in § 91.5(b) do not require testing for brucellosis prior to export when cattle are being exported directly to slaughter in a country that the Administrator has determined has an acceptable brucellosis surveillance system at slaughter plants and that agrees to share any findings of brucellosis in U.S. origin cattle with APHIS, or when cattle are being exported directly to slaughter from a State designated as a Class Free State in 9 CFR part 78, “Brucellosis.” Official vaccinates of dairy breeds under 20 months of age, official vaccinates of beef breeds under 24 months of age, and steers and spayed heifers are also exempt from the brucellosis testing requirement.

All other cattle exported from the United States must be tested for tuberculosis within 90 days prior to export and tested for brucellosis within 30 days prior to export, as required by § 91.3(c). The brucellosis test may be administered at a longer interval prior to export if the receiving country requires or allows it.

In recent years, the Cooperative State-Federal Tuberculosis Eradication Program and the Cooperative State-Federal Brucellosis Eradication Program have made significant progress in reducing the occurrence of those two diseases in U.S. cattle. Currently, all States except Minnesota and portions of Michigan and New Mexico are designated Accredited-free for tuberculosis, and all States except Idaho and Texas are designated Class Free States for brucellosis.

Canadian animal health authorities have recognized our success in eradicating brucellosis, tuberculosis, and other diseases by establishing the Restricted Feeder Cattle Program, which allows certain untested feeder cattle to be imported into Canada.¹ To participate in this program, the feeder cattle must originate in a State that has been designated by the U.S. Department of Agriculture (USDA) as free of brucellosis and tuberculosis. Under the program, U.S. feeder cattle from 39 States considered to have a low incidence of bluetongue are able to enter Canada directly without testing; feeder cattle from the remaining 11 States, which are considered to have a high incidence of bluetongue, are also not required to be tested, provided they reside for at least 60 days prior to import in a low-incidence State. Testing for cattle from such States, however, is still an option; should the feeder cattle be found free of bluetongue, the 60-day period is waived.²

¹ Detailed provisions of this program can be found in Canadian Food Inspection Agency Client Services Information Sheet No. 14, “Restricted Feeder Cattle from the United States.” This document can be viewed on the Internet at http://www.inspection.gc.ca/english/anima/heasan/policy/ie-2001-14e.shtml.

² The Canada Food Inspection Agency published a proposal on May 19, 2006, that would eliminate bluetongue-related restrictions on the importation of cattle, among other animals.

Feeder cattle that meet these conditions do not fall under any of the exceptions in § 91.5 and are still required to be tested within 30 and 90 days of export for brucellosis and tuberculosis, respectively. Paragraph (b) of § 91.3 states that the Administrator may, upon request of the appropriate animal health official of the country of destination, waive the tuberculosis and brucellosis tests referred to in §§ 91.5(a) and (b) of the regulations when he finds such tests are not necessary to prevent the exportation of diseased animals from the United States. However, this provision does not allow us to relieve the testing requirement for cattle exported under the Restricted Feeder Cattle Program, as Canadian animal health officials would have to request each time cattle are exported that the brucellosis and tuberculosis tests not be administered.

Canada's Restricted Feeder Cattle Program covers only cattle that meet the requirements above, and there are no other countries that have recognized our Accredited-free and Class Free designations for States. However, we have recently requested that Canadian animal health authorities recognize our Accredited-free and Class Free designations for States and more generally relieve testing requirements for cattle exported to Canada from those States. If Canada approves this request, the regulations would still require U.S. exporters to administer tuberculosis and brucellosis tests that would then not be required by Canadian animal health regulations. A similar situation could arise if any other country that receives U.S. cattle were to recognize our Accredited-free for tuberculosis or Class Free for brucellosis designations of States and suspend or eliminate any requirements that U.S. cattle must be tested for those diseases prior to export from the United States, because the regulations require testing in all cases except those listed earlier in this document.

To relieve this unnecessary burden and to avoid similar problems that may arise in the future, we are proposing to amend the regulations to exempt cattle from tuberculosis and brucellosis testing prior to export if such testing is not required by the receiving country for cattle from any tuberculosis Accredited-free or brucellosis Class Free State. This action would both relieve restrictions on certain exports of U.S. cattle to Canada that no longer appear necessary and ensure that, if other countries receiving exports of U.S. cattle suspend or remove their requirements that U.S. cattle be tested for tuberculosis or brucellosis, U.S. exporters of cattle would receive the full benefits of no longer being required to perform such tests.

Miscellaneous Changes

In § 91.1, official brucellosis vaccinate is defined as: “A female bovine animal vaccinated against brucellosis in accordance with the provisions prescribed in the Recommended brucellosis Eradication Uniform Methods and Rules, chapter 1, part I-H, I, and J. The provisions of the Uniform Methods and Rules are hereby incorporated by reference.” However, “Uniform Methods and Rules: Brucellosis Eradication” has not actually been incorporated by reference, and so no explicit definition of official brucellosis vaccinate currently exists in 9 CFR part 91. We are proposing to correct this error by revising this definition to read: “An official adult vaccinate or an official calfhood vaccinate as defined in § 78.1 of this chapter.” The definitions in § 78.1 are similar to the definitions of those terms in “Uniform Methods and Rules: Brucellosis Eradication,” but contain more specific testing requirements.

The regulations contain other references to the “Uniform Methods and Rules: Brucellosis Eradication.” We are developing a proposal that would update the regulations and harmonize them with the “Uniform Methods and Rules: Brucellosis Eradication.” We will address the other references to the “Uniform Methods and Rules” in the regulations with that proposal.

In § 91.5, paragraph (a)(1)(ii) states that tuberculosis tests are not required for any cattle “exported directly to slaughter from a State designated as an Accredited-Free State in 9 CFR 77.1.” The regulations in part 77 were revised in a final rule published in the Federal Register on October 23, 2000 (65 FR 63502-63533), and the list of Accredited-free States for cattle and bison is now located in § 77.7. We would amend § 91.5(a)(1)(ii) to reflect that change.

Executive Order 12866 and Regulatory Flexibility Act

This proposed rule has been reviewed under Executive Order 12866. The rule has been determined to be not significant for the purposes of Executive Order 12866 and, therefore, has not been reviewed by the Office of Management and Budget.

The proposed rule would remove the requirement that cattle destined for export must be tested for brucellosis and tuberculosis prior to export in any case in which such testing is not required by the receiving country for cattle originating in the United States or any State therein.

The proposed rule would affect domestic producers of cattle, specifically those engaged in the export of animals. In 2005, there were 982,510 cattle operations in the United States.³ On January 1, 2005, domestic inventory of cattle and calves totaled over 95.8 million, with an average per head value of $916, and a total value of production of over $87.8 billion.⁴ Under U.S. Small Business Administration's (SBA) size standards, operations engaged in cattle ranching or production (both beef and dairy) are considered small if they earn $750,000 or less in annual receipts.⁵ According to the USDA's National Agricultural Statistics Service, approximately 953,390, or 97 percent, of the 982,510 cattle operations in the United States are holding fewer than 500 head of cattle. As such, we would assume that the overwhelming majority of domestic cattle operations would be considered small by SBA standards.

³ USDA-NASS, Quick Stats U.S. & All States Data. Washington, DC: National Agricultural Statistics Service, 2006.

⁴ USDA-NASS, Agricultural Statistics 2005.

⁵ Table of Size Standards based on North American Industry Classification System (NAICS) 2002. Beef Cattle Ranching and Farming: NAICS code 112111, Dairy Cattle and Milk Production: NAICS code 112120. Washington, DC: U.S. Small Business Administration, effective January 5, 2006.

Only those operations engaged in the export of their animals would be affected by this proposed rule. In 2005, the United States exported 21,155 live cattle, with a total value of over $7.2 million. Our primary trading partners historically are Canada and Mexico, and in 2005 Canada and Mexico ranked first and second, respectively, as destinations of U.S. live cattle exports by value.⁶ In response to strong domestic cattle price and trade barriers related to bovine spongiform encephalopathy and other diseases, U.S. cattle exports declined significantly in 2003-2004, but they are now on the rebound. The number of operations engaged in the export of cattle is unknown.

⁶ USDA-FAS, U.S. Trade Exports-FATUS Commodity Aggregations. Washington, DC: Foreign Agricultural Service. Based on data from the Dept. of Commerce, U.S. Census Bureau, Foreign Trade Statistics.

Under the proposed rule, domestic cattle producers wishing to export their animals would no longer be required to test for tuberculosis and brucellosis prior to export when the importing countries do not require such testing. As such, the proposed rule would represent a reduction in compliance costs currently associated with export requirements for live cattle. APHIS estimates the average cost of tuberculosis testing for cattle ranges from $10 to $12 per head. In addition, APHIS estimates the cost of an official herd blood test for brucellosis to be $3 per animal. APHIS welcomes public comment regarding the exact costs for tuberculosis tests and brucellosis tests per animal. Assuming a producer located in a State that is Accredited-free for tuberculosis and Class Free for brucellosis were to export cattle to a country where pre-export testing requirements were eliminated, the cost savings that the producer would capture as a result of the proposed change to the regulations would depend on the number of animals exported. Again, the exact number of domestic producers whose operations depend on the export of cattle is unknown. However, given the average per-head value of $916, the cost saved by not having to test for tuberculosis and brucellosis prior to export is not expected to be economically significant, as the combined cost of the tests represents a small percentage of the per-head value of the cattle.

Under these circumstances, the Administrator of the Animal and Plant Health Inspection Service has determined that this action would not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This proposed rule has been reviewed under Executive Order 12988, Civil Justice Reform. If this proposed rule is adopted: (1) All State and local laws and regulations that are in conflict with this rule will be preempted; (2) no retroactive effect will be given to this rule; and (3) administrative proceedings will not be required before parties may file suit in court challenging this rule.

Paperwork Reduction Act

This proposed rule contains no new information collection or recordkeeping requirements under the Paperwork Reduction Act of 1995 (44 U.S.C. 3501 et seq.).

List of Subjects in 9 CFR Part 91

Animal diseases, Animal welfare, Exports, Livestock, Reporting and recordkeeping requirements, Transportation.

Accordingly, we propose to amend 9 CFR part 91 as follows:

PART 91—INSPECTION AND HANDLING OF LIVESTOCK FOR EXPORTATION

1. The authority citation for part 91 would continue to read as follows:

Authority: 7 U.S.C. 8301-8317; 19 U.S.C. 1644a(c); 21 U.S.C. 136, 136a, and 618; 46 U.S.C. 3901 and 3902; 7 CFR 2.22, 2.80, and 371.4.

2. In § 91.1, the definition of official brucellosis vaccinate would be revised to read as follows:

§ 91.1 Definitions.

* * * * *

Official brucellosis vaccinate. An official adult vaccinate or an official calfhood vaccinate as defined in § 78.1 of this chapter.

* * * * *

3. Section 91.5 would be amended as follows:

a. In paragraph (a)(1), by removing the word “or” at the end of paragraph (a)(1)(i); by removing the citation “9 CFR 77.1” in paragraph (a)(1)(ii) and adding the citation “§ 77.7 of this chapter” in its place; by removing the period at the end of paragraph (a)(1)(ii) and adding a semicolon in its place; and by adding new paragraphs (a)(1)(iii) and (a)(1)(iv) to read as set forth below.

b. In paragraph (b)(1), by removing the word “or” at the end of paragraph (b)(1)(iv), by removing the period at the end of paragraph (b)(1)(v) and adding a semicolon in its place, and by adding new paragraphs (b)(1)(vi) and (b)(1)(vii) to read as set forth below.

§ 91.5 Cattle.

* * * * *

(a) * * *

(1) * * *

(iii) Cattle exported to a country that does not require cattle from the United States to be tested for tuberculosis as described in this part; or

(iv) Cattle exported from a State designated as an Accredited-free State in § 77.7 of this chapter to a country that does not require cattle from Accredited-free States to be tested for tuberculosis as described in this part.

* * * * *

(b) * * *

(1) * * *

(vi) Cattle exported to a country that does not require cattle from the United States to be tested for brucellosis as described in this part; or

(vii) Cattle exported from a State designated as a Class Free State in § 78.41 of this chapter to a country that does not require cattle from Class Free States to be tested for brucellosis as described in this part.

* * * * *

Done in Washington, DC, this 3rd day of January 2007.
Kevin Shea,
Acting Administrator, Animal and Plant Health Inspection Service.

[FR Doc. E7-111 Filed 1-9-07; 8:45 am]

BILLING CODE 3410-34-P